DEPARTMENT OF THE INTERIOR

Fish and Wildlife Service

[FWS-R8-ES-2015-N142]; [FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before August 31, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-72047A-2

Applicant: Martina Pernicano, Golden, Colorado

The applicant requests a permit renewal to take (harass by survey and locate and monitor nests) the southwestern willow flycatcher (Empidonax traillii extimus) in conjunction with survey and population monitoring throughout the range of the species for the purpose of enhancing the species' survival.

Permit No. TE-69046B

Applicant: Jim Asmus, San Diego, California

The applicant requests a permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species for the purpose of enhancing the species' survival.

Permit No. TE-012137

Applicant: Fort Hunter Liggett, Fort Hunter Liggett, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (capture, band, and release) the least Bell's vireo (Vireo bellii pusillus); and take (capture, handle, measure, test for chytrid fungus, captive rear, and release) the arroyo toad (arroyo southwestern) (Anaxyrus californicus) in conjunction with surveys and research on Fort Hunter Liggett for the purpose of enhancing the species' survival.

Permit No. TE-830213

Applicant: EcoPlan Associates, Inc., Mesa, Arizona

The applicant requests a permit renewal and amendment to take (harass by survey) the southwestern willow flycatcher (Empidonax traillii extimus) in conjunction with survey activities throughout the range of the species in Imperial, Riverside, and San Bernardino Counties, California, and Clark County, Nevada, for the purpose of enhancing the species' survival.

Permit No. TE-12511A

Applicant: Kathryn Allan, San Francisco, California

The applicant requests a permit renewal to take (harass by survey, capture, handle, mark, and release) the salt marsh harvest mouse (Reithrodontomys raviventris) in conjunction with survey activities throughout the range of the species for the purpose of enhancing the species' survival.

Permit No. TE-225974

Applicant: Midpeninsula Regional Open Space District, Los Altos, California

The applicant requests a permit renewal to take (harass by survey, capture, handle, transfer, and release) the San Francisco garter snake (Thamnophis sirtalis tetrataenia) and California red-legged frog (Rana draytonii) (R. aurora d.) in conjunction with habitat management activities within the Midpeninsula Regional Open Space District in Santa Clara and San Mateo Counties, California, for the purpose of enhancing the species' survival.

Permit No. TE-122632

Applicant: Kimberly Ferree, Encinitas, California

The applicant requests a permit renewal to take (locate and monitor nests, capture, mark, band, release, and remove brown-headed cowbird (Molothrus ater) eggs and chicks from parasitized nests) the least Bell's vireo (Vireo bellii pusillus); and take (harass by survey, locate and monitor nests, and remove brown-headed cowbird eggs and chicks from parasitized nests) the southwestern willow flycatcher (Empidonax traillii extimus) in conjunction with surveys and population studies throughout the range of the species in California for the purpose of enhancing the species' survival.

Permit No. TE-001075

Applicant: Marc Blain, Pasadena, California

The applicant requests a permit renewal to take (harass by survey) the southwestern willow flycatcher (Empidonax traillii extimus) in conjunction with survey activities throughout Los Angeles, Orange, Riverside, San Bernardino, and San Diego Counties, California, for the purpose of enhancing the species' survival.

Permit No. TE-820658

Applicant: AECOM Technical Services, San Diego, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey and locate and monitor nests) the California least tern (Sternula antillarum browni) (Sterna a. browni); take (harass by survey, capture, handle, and release) the California tiger salamander (Santa Barbara County Distinct Population Segment (DPS) and Sonoma County DPS) (Ambystoma californiense); take (locate and monitor nests) the least Bell's vireo (Vireo bellii pusillus); take (survey by pursuit) the Quino checkerspot butterfly (Euphydryas editha quino); and take (harass by survey, capture, handle, and release) the giant kangaroo rat (Dipodomys ingens), Tipton kangaroo rat (Dipodomys nitratoides nitratoides), and unarmored threespine stickleback (Gasterosteus aculeatus williamsoni) in conjunction with surveys and population monitoring throughout the range of the species in California; take (harass by survey) the southwestern willow flycatcher (Empidonax traillii extimus); and take (harass by survey, capture, handle, and release) the Pacific pocket mouse (Perognathus longimembris pacificus) in conjunction with surveys throughout Imperial, Inyo, Los Angeles, Orange, Riverside, San Bernardino, San Diego, Santa Barbara, and Ventura Counties, California, for the purpose of enhancing the species' survival.

Permit No. TE-815214

Applicant: Oceano Dunes State Vehicular Recreation Area, Pismo Beach, California

The applicant requests a permit renewal to take (harass by survey, locate and monitor nests, erect fence and nest exclosures, use remote sensing cameras, remove nonviable eggs, translocate viable eggs from abandoned nests, transport eggs, capture, band, and release chicks, and carry out predator control) the California least tern (Sternula antillarum browni) (Sterna a. browni)) in conjunction with surveys and population monitoring within Santa Barbara and San Luis Obispo Counties, California, for the purpose of enhancing the species' survival.

Permit No. TE-72045A

Applicant: Alisa Zych, Cardiff by the Sea, California

The applicant requests a permit renewal to take (harass by survey) the southwestern willow flycatcher (Empidonax traillii extimus) in conjunction with survey activities throughout range of the species in California for the purpose of enhancing the species' survival.

Permit No. TE-758175

Applicant: Griffith Wildlife Biology, Calumet, Michigan

The applicant requests a permit renewal to take (harass by survey, locate and monitor nests, and remove brown-headed cowbird (Molothrus ater) eggs and chicks from parasitized nests) the southwestern willow flycatcher (Empidonax traillii extimus); take (harass by survey) the light-footed Ridgway's rail (light-footed clapper r.) (Rallus obsoletus levipes) (R. longirostris l.) and Yuma Ridgway's rail (Yuma clapper r.) (Rallus obsoletus yumanensis) (R. longirostris y.); and take (use recorded vocalizations, locate and monitor nests, capture, band, release, and remove brown-headed cowbird eggs and chicks from parasitized nests) the least Bell's vireo (Vireo bellii pusillus) in conjunction with surveys and population studies throughout the range of the species in Arizona, California, Nevada, and New Mexico, for the purpose of enhancing the species' survival.

Permit No. TE-816187

Applicant: David Cook, Santa Rosa, California

The applicant requests a permit renewal to take (harass by survey, capture, handle, and release) the California tiger salamander (Santa Barbara County DPS and Sonoma County DPS) (Ambystoma californiense) and Santa Cruz long-toed salamander (Ambystoma macrodactylum croceum) in conjunction with survey activities throughout the range of the species in California for the purpose of enhancing the species' survival.

Permit No. TE-07059A

Applicant: Paul Marsh, Tempe, Arizona

The applicant requests a permit renewal to take (capture, mark, tag, measure, and release) the Virgin River chub (Gila robusta seminuda), woundfin (Plagopterus argentissimus), and Colorado pikeminnow (squawfish) (Ptychocheilus lucius); take (capture, mark, tag, measure, and release or collect) the razorback sucker (Xyrauchen texanus); and take (capture, mark, tag, measure, fin clip, collect vouchers, and release) the desert pupfish (Cyprinodon macularius) in conjunction with survey, research, genetic analysis, and population monitoring activities in California and Nevada for the purpose of enhancing the species' survival.

Permit No. TE-70888B

Applicant: Robert Klinger, Oakhurst, California

The applicant requests a new permit to take (harass by survey, capture, mark, handle, release, and construct predator exclosures) the Amargosa vole (Microtus californicus scirpensis) in conjunction with research activities throughout the range of the species for the purpose of enhancing the species' survival.

Permit No. TE-778195

Applicant: HELIX Environmental Planning, La Mesa, California

The applicant requests a permit renewal to take (harass by survey, capture, handle, release, collect adult vouchers, collect branchiopod cysts, collect, process, and analyze soil samples for egg identification) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (locate and monitor nests and remove brown-headed cowbird (Molothrus ater) eggs and chicks from parasitized nests) the least Bell's vireo (Vireo bellii pusillus); take (harass by survey) the southwestern willow flycatcher (Empidonax traillii extimus); and take (survey by pursuit) the Quino checkerspot butterfly (Euphydryas editha quino) in conjunction with surveys and population monitoring throughout the range of the species in California for the purpose of enhancing the species' survival.

Permit No. TE-065741

Applicant: John Lovio, San Diego, California

The applicant requests a permit renewal and amendment to take (harass by survey, capture, handle, release, collect adult vouchers, collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, locate and monitor nests, and remove brown-headed cowbird (Molothrus ater) eggs and chicks from parasitized nests) the southwestern willow flycatcher (Empidonax traillii extimus); take (locate and monitor nests and remove brown-headed cowbird eggs and chicks from parasitized nests) the least Bell's vireo (Vireo bellii pusillus); and take (survey by pursuit) the Quino checkerspot butterfly (Euphydryas editha quino) in conjunction with surveys and population monitoring throughout the range of the species in California for the purpose of enhancing the species' survival.

Permit No. TE-055013

Applicant: San Bernardino National Forest, San Bernardino, California

The applicant requests a permit renewal to remove/reduce to possession the following species, in conjunction with implementing land management strategies on and adjacent to the San Bernardino National Forest, California, for the purpose of enhancing the species' survival.

• Eremogone ursina (Bear Valley sandwort),

• Astragalus albens (Cushenbury milk-vetch),

• Astragalus brauntonii (Braunton's milk-vetch),

• Astragalus lentiginosus var. coachellae (Coachella Valley milk-vetch),

• Astragalus tricarinatus (triple-ribbed milk-vetch),

• Berberis nevinii (Nevin's barberry),

• Brodiaea filifolia (thread-leaved brodiaea),

• Castilleja cinerea (ash-grey paintbrush),

• Dodecahema leptoceras (slender-horned spineflower),

• Eriastrum densifolium subsp. sanctorum (Santa Ana River woolly-star),

• Eriogonum kennedyi var. austromontanum (southern mountain wild-buckwheat),

• Eriogonum ovalifolium var. vineum (Cushenbury buckwheat),

• Erigeron parishii (Parish's daisy),

• Physaria kingii subsp. bernardina (Lesquerella k. subsp. b.) (San Bernardino Mountains bladderpod),

• Acanthoscyphus parishii var. goodmaniana (Oxytheca p. var. g.) (Cushenbury oxytheca),

• Poa atropurpurea (San Bernardino bluegrass),

• Sidalcea pedata (pedate checker-mallow),

• Taraxacum californicum (California taraxacum), and

• Thelypodium stenopetalum (slender-petaled mustard)

Permit No. TE-100008

Applicant: Daniel Cooper, Oak Park, California

The applicant requests a permit renewal to take (harass by survey) the southwestern willow flycatcher (Empidonax traillii extimus) in conjunction with survey activities throughout range of the species in California for the purpose of enhancing the species' survival.

Permit No. TE-36500A

Applicant: Western Foundation for Vertebrate Zoology, Camarillo, California

The applicant requests a permit renewal and amendment to take (locate and monitor nests, remove brown-headed cowbird (Molothrus ater) eggs and chicks from parasitized nests, capture, band, and release) the least Bell's vireo (Vireo bellii pusillus) in conjunction with surveys and population monitoring throughout the Santa Clara River corridor in Ventura County, California, for the purpose of enhancing the species' survival.

Permit No. TE-139628

Applicant: Garcia and Associates, San Francisco, California

The applicant requests a permit amendment to take (harass by survey, capture, handle, and release) the Sierra Nevada yellow-legged frog (Rana sierrae) in conjunction with survey activities throughout the range of the species for the purpose of enhancing the species' survival.

Permit No. TE-119861

Applicant: Quad Knopt, Inc., Fresno, California

The applicant requests a permit renewal to take the (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the California tiger salamander (Santa Barbara County DPS and Sonoma County DPS) (Ambystoma californiense) and California red-legged frog (Rana draytonii) (R. aurora d.); take (harass by survey, capture, handle, mark, fit with radio transmitters, hold in captivity, and release) the Fresno kangaroo rat (Dipodomys nitratoides exilis), giant kangaroo rat (Dipodomys ingens), and Tipton kangaroo rat (Dipodomys nitratoides nitratoides); and take (harass by survey, capture, handle, mark, take biological samples, and release) the Buena Vista Lake shrew (Sorex ornatus relictus) in conjunction with surveys, population monitoring, and research activities throughout the range the species in California for the purpose of enhancing the species' survival.

Permit No. TE-137006

Applicant: Thea Benson, Paso Robles, California

The applicant requests a permit renewal to take (harass by survey) the southwestern willow flycatcher (Empidonax traillii extimus) in conjunction with survey activities throughout range of the species in California for the purpose of enhancing the species' survival.

Permit No. TE-799557

Applicant: Robert Hamilton, Long Beach, California

The applicant requests a permit renewal to take (harass by survey) the southwestern willow flycatcher (Empidonax traillii extimus) in conjunction with survey activities throughout range of the species in California for the purpose of enhancing the species' survival.

Permit No. TE-71214B

Applicant: Tara Collins, Sacramento, California

The applicant requests a new permit to take (harass by survey, capture, handle, release, collect adult vouchers, collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species for the purpose of enhancing the species' survival.

Permit No. TE-95006A

Applicant: Stephen Chen, San Luis Obispo, California

The applicant requests a permit amendment to take (survey by pursuit) the Quino checkerspot butterfly (Euphydryas editha quino) in conjunction with survey activities throughout the range of the species in California for the purpose of enhancing the species' survival.

Permit No. TE-172638

Applicant: Kevin Livergood, Lake Forest, California

The applicant requests a permit renewal to take (harass by survey, capture, handle, release, collect adult vouchers, collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species for the purpose of enhancing the species' survival.

Permit No. TE-71221B-0

Applicant: Kimberly Boydstun, Temecula, California

The applicant requests a new permit to take (survey by pursuit) the Quino checkerspot butterfly (Euphydryas editha quino) in conjunction with survey activities throughout the range of the species in California for the purpose of enhancing the species' survival.

Permit No. TE-105545-3

Applicant: Wendy Knight, San Luis Obispo, California

The applicant requests a permit amendment to take (harass by survey, capture, handle, take biological samples, hold, and release) the California tiger salamander (Santa Barbara County DPS and Sonoma County DPS) (Ambystoma californiense) in conjunction with surveys and research activities throughout the range of the species in California for the purpose of enhancing the species' survival.

Permit No. TE-005956

Applicant: U.S. Geological Survey, Western Fisheries Research Center, Reno, NV

The applicant requests a permit amendment to take (capture, mark, tag, measure, transport, and release) the Pahranagat roundtail chub (Gila robusta jordani) in conjunction with survey, research, genetic analysis, and population monitoring activities in Nevada for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: July 24, 2015.
Michael Long,
Acting Regional Director, Pacific Southwest Region, Sacramento, California.

[FR Doc. 2015-18707 Filed 7-29-15; 8:45 am]

BILLING CODE 4310-55-P